ENVIRONMENTAL PROTECTION AGENCY

40 CFR Part 75

[EPA-HQ-OAR-2009-0837; FRL-9280-9]

RIN 2060-AQ06

Protocol Gas Verification Program and Minimum Competency Requirements for Air Emission Testing

Correction

In rule document 2011-6216 appearing on pages 17288-17325 in the issue of Monday, March 28, 2011, make the following correction:

Appendix D to Part 75 [Corrected]

On page 17324, the heading of Appendix D is corrected to read:

Appendix D to Part 75—Optional SO2 Emissions Data Protocol for Gas-Fired and Oil-Fired Peaking Units

[FR Doc. C1-2011-6216 Filed 4-12-11; 8:45 am]

BILLING CODE 1505-01-D